DEPARTMENT OF TRANSPORTATION

Surface Transportation Board

[STB Finance Docket No. 34334]

Lancaster and Chester Railway Company—Acquisition and Operation Exemption—Norfolk Southern Railway Company

Lancaster and Chester Railway Company (L&C), a Class III rail carrier, has filed a verified notice of exemption under 49 CFR 1150.41 to acquire from Norfolk Southern Railway Company (NS) approximately 30.8 miles of rail line in Kershaw and Lancaster Counties, SC. The line extends from approximately milepost SB-58.7, at Kershaw, to approximately milepost SB-89.5, at Catawba, SC. The line connects to L&C's existing rail line at L&C Chester District Connection, at approximately milepost SB-76.4, near Lancaster. L&C currently operates the subject line under a lease from NSR.¹

¹ L&C leases the line pursuant to a notice of exemption in Lancaster and Chester Railway Company—Lease and Operation Exemption—Norfolk Southern Railway Company, STB Finance Docket No. 33969 served and published in the Federal Register on February 7, 2001 (66 FR 9410).

L&C certifies that its projected revenues as a result of this transaction will not result in the creation of a Class II or Class I rail carrier.²

² In a decision served on April 28, 2003, the Board granted L&C's request to waive the labor notice requirements of 49 CFR 1150.42(e). The Board noted that no NS employees have worked on the line for more than 2 years, and that, when L&C leased the line, required notice was sent to national offices of all labor unions representing employees on the line and was posted at the workplace of employees on the line in compliance with 49 CFR 1150.42(e).

L&C states that it expects to consummate the transaction: (1) By the end of April 2003, but not before the Board renders its decision on the petition for waiver; (2) if it satisfies the requirements under CFR 1150.42(e); or (3) on April 21, 2003 (7 days after the exemption was filed). As a result of the waiver of the labor notice requirements, the exemption in this proceeding was effective on April 28, 2003.

If the notice contains false or misleading information, the exemption is void ab initio. Petitions to revoke the exemption under 49 U.S.C. 10502(d) may be filed at any time. The filing of a petition to revoke will not automatically stay the transaction.

An original and 10 copies of all pleadings, referring to STB Finance Docket No. 34334, must be filed with the Surface Transportation Board, 1925 K Street NW., Washington, DC 20423-0001. In addition, one copy of each pleading must be served on Rose-Michele Weinryb, Esq., Weiner Brodsky Sidman Kider, PC, 1300 19th Street, NW., Fifth Floor, Washington, DC 20036-1609.

Board decisions and notices are available on our website at http://www.stb.dot.gov.

Decided: May 5, 2003.
By the Board, David M. Konschnik, Director, Office of Proceedings.
Vernon A. Williams,
Secretary.

[FR Doc. 03-11481 Filed 5-8-03; 8:45 am]

BILLING CODE 4915-00-P